DEPARTMENT OF AGRICULTURE

Forest Service

Ochoco and Deschutes National Forests; OR; Invasive Plant Treatment Project.

AGENCY: Forest Service, USDA.

ACTION: Revised notice of intent to prepare an environmental impact statement.

SUMMARY: On February 23, 2004 the original Notice of Intent to prepare an Environmental Impact Statement to “* * * document and disclose the potential environmental effets of proposed invasive plant treatment activities on the Ochoco and Deshutes National Forests.” appear in the Federal Register. The original Notice Intent appeared in Federal Register Volume 69, No. 35/February 23, 2004 on page 8174. Due to the extensive length of time between that publication in the Federal Register and the initiation of the analysis for this project, a Revised Notice of Intent is being published. Comments need not be re-submitted if they were submitted in 2004 for this proposed action.

The USDA Forest Service will prepare an Environmental Impact Statement (EIS) to document and disclose the potential environmental effects of proposed invasive plant treatment activities on the Deschutes National Forest, Ochoco National Forest and the Crooked River National Grassland. This project evaluates site-specific treatments of invasive plants; including manual, mechanical, cultural, biological and herbicide treatment methods as well as the use of prescribed fire. Forest Plan direction, including amendments identified in the Pacific Northwest Region Invasive Plant Program Environmental Imact Statement, will be incorporated into all alternatives, including the Proposed Action.

DATES: A Draft EIS is expected to be available in January, 2005, and the final EIS in April, 2006.

ADDRESSES: Submit written comments (i.e., letter or fax) to Lorri Health, Invasive Plant EIS Team Leader, Deschutes National Forest, SW., 1001 Emkay Drive, Bend, OR. Fax number is 541-383-5531. Submit email comments to: comments-pacificnorthwest-deschutes@fs.fed.us.

FOR FURTHER INFORMATION CONTACT: If you have questions or need more information about this project, contact Lorri Heath, Invasive Plant EIS Team Leader, Deschutes National Forest, 1001 SW Emkay Drive, Bend, OR 97702 (541-383-5738). Maps of the proposed treatment sites are available at the Deschutes NF Supervisor Office, Ochoco NF Supervisor Office, Bend/Ft. Rock Ranger District Office, Crescent Ranger District Office, Sisters Ranger District Office, Lookout Mountain Ranger District Office, Paulina Ranger District Office and the Crooked River National Grassland Office, Location and contact information for these offices can be obtained from Lorri Heath, Invasive Plant EIS Team Leader, Deschutes National Forest, 1001 SW., Emkay Drive, Bend, OR 97702 (541-383-5738).

SUPPLEMENTARY INFORMATION:

Purpose and Need for Action

Approximately 60,000 acres of the total 3 million acres of forest and grasslands on the Ochoco National Forest, Deschutes National Forests and Crooked River National Grassland are degraded by infestations of invasive, non-native plants. These infestations have been identified on approximately 2,000 individual locations or sites. These infestations have a high potential to expand and further degrade forests and grasslands. Infested areas represent potential seed sources for further invasion onto neighboring lands.

Invasive plants create a host of adverse environmental effects which are harmful to native ecosystem processes. Examples of these effects include: Displacement of native plants; reduction in functionality of habitat and forage for wildlife and livestock; loss of threatened, endangered, and sensitive species; increased soil erosion and reduced water quality; alteration of physical and biological properties of soil, including reduced soil productivity; changes to the intensity and frequently of wildfires; budget impacts that limit or reduce land management opportunities due to high costs or dollars spent for controlling invasive plants; and loss of recreational opportunities. Without action, invasive plant populations will continue to grow; compromising our ability to manage for healthy functioning ecosystems.

Proposed Action

The USDA Forest Service; Deschutes National Forest, Ochoco National Forest, and Crooked River National Grassland propose to treat areas currently identified with invasive plant infestations and to provide timely treatments for expanded and newly identified invasive plant sites. Treatments, depending upon the species of invasive plants and site characteristics, would include the use of prescribed fire; manual, and mechanical, cultural, chemical and biological control methods. The proposed treatments would enhance our ability to protect native ecosystems from invasive, non-native plants. Some of the infested areas are small in size, while others are extensive.

Invasive plant treatments are proposed on approximately 12,000 acres that are known to be infested by invasive plants. The Proposed Action will also analyze treatments for the likely expansion of these existing sites, and for new (unidentified) invasive plant sites in areas most susceptible to new introductions.

Treatment methods are based upon information such as the biology of a particular invasive plant species, invasive plant site location, site type, and size of the infestation. Long-term site goals would be established for infested areas. Site goals are based upon treatment options, monitoring and revegetation potential. Prescriptions are based upon Integrated Pest Management principles. Integrated Pest Management (IPM) is a process by which one selects and applies a combination of management techniques (Example: Prevention then manual or mechanical treatments, followed by biological treatments) that, together, control a particular invasive plant species or infestation efficiently and effectively. IPM seeks to combine two or more management techniques which interact to provide better control than any one of the actions might provide along. It is typically species-specific, site-specific and designed to be practical; with minimum risk to non-target species or the surrounding environment, including wildlife species and human health.

Invasive plant treatments are proposed on approximately 12,000 acres that are known to be infested by invasive plants. The Proposed Action will also analyze treatments for the likely expansion of these existing sites, and for new (unidentified) invasive plant sites in areas most susceptible to new introductions. In addition to the known 12,000 acres of invasive plants, an estimated additional 960 acres (based on 8% rate of spread) of expanded and new sites will be treated per year for the life of this plan. Actual annual treatment acres associated with these future sites would likely vary because of variations in invasive plant spread and occurrence of new invasive plant introductions. Actual annual treatment will likely decline over the life of this plan because of the effectiveness of these treatment actions.

Based upon currently known sites with weed infestations, the Proposed Action includes approximately 100 acres of biological control treatment, approximately 500 acres of herbicide only treatment, approximately 6,000 acres of herbicides plus manual treatments, approximately 1,000 acres of manual only treatment, approximately 500 acres of cultural plus herbicide treatments, approximately 700 acres of manual plus mechanical treatments, approximately 100 acres of mechanical plus herbicide treatments and approximately 2,500 acres of prescribed fire treatments.

Proposed Scoping

Public participation is an important part of this analysis. The Forest Service is seeking information, comments, and assistance from Federal, State and local agencies; Native American Tribes; and other individuals or organizations who may be interested in or affected by the proposed action. Comments submitted during the scoping process should be in writing. They should be specified to the action being proposed and should describe as clearly and completely as possible any issues that commenter has with the proposal. This input will be used in preparation of the Draft EIS.

In addition to inviting public comments, the public may visit Forest Service officials familiar with this project, at any time during the analysis and prior to the decision. To facilitate public participation, additional opportunities may include: a scoping letter, public meetings and/or field trips. Dates of meetings and field trips are yet to be determined.

Comments

The Forest Service believes, at this early stage, it is important to give reviewers notice of several court rulings related to public participation in the environmental review process. First, reviewers of the draft EIS must structure their participation in the environmental review of the proposal so that it is meaningful, and alerts any agency to the reviewer's position and contentions (Vermont Yankee Nuclear Power Corp. v. NRDC, 435 U.S. 519.553 (1978)). Also, environmental objectives that could be raised at the draft EIS stage but that are not raised until after the completion of the final EIS may be waived or dismissed by the courts (City of Angoon v. Hodel, 803 F. 2d 1016, 1022 (9th Cir. 1986) and Wisconsin Heritage, Inc. v. Harris, 490 F. Supp. 1334 (E.D.Wis. 1980)). Because of these court rulings, it is very important that those interested in this proposed action participate by the close of the 45-day comment period, so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or merits of alternatives formulated and discussed in the statement. Reviewers may wish to refer to the Council on Environmental Quality Regulations for implementing the procedural provision of the National Environmental Policy Act (40 CFR 1503.3) in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be award that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in April 2006. There will be two responsible officials for this multi-Forest EIS. Duties of the Responsible Official will be shared between Leslie Weldon, Forest Supervisor of the Deschutes National Forest, and Larry Timchak, Forest Supervisor of the Ochoco National Forest. They will consider comments, responses, and environmental consequences discussed in the final EIS, and applicable laws, regulations, and policies in making a decision regarding this proposed action. The responsible officials will document the decision and rationale for the decision in the Record of Decision. It will be subject to Forest Service Appeal Regulations (36 CFR part 215).

Dated: September 26, 2005.
Leslie Weldon,
Supervisor, Deschutes National Forest.
Dated: September 27, 2005.
K.J. Silverman,
Acting Supervisor, Ochoco National Forest & Crooked River National Grasslands.

[FR Doc. 05-20672 Filed 10-20-05; 8:45 am]

BILLING CODE 3410-11-M